DEPARTMENT OF LABOR

Employment and Training Administration

[TA-W-62,188]

Nortel Networks Corporation, Global Software Delivery Division, Site Readiness Group; Research Triangle Park, NC; Notice of Negative Determination Regarding Application for Reconsideration

By application dated December 7, 2007, the petitioner requested administrative reconsideration of the Department's negative determination regarding eligibility to apply for Trade Adjustment Assistance (TAA), applicable to workers and former workers of the subject firm. The denial notice was signed on November 8, 2007 and published in the Federal Register on November 21, 2007 (72 FR 65607).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of Nortel Networks Corporation, Global Software Delivery Division, Site Readiness Group, Research Triangle Park, North Carolina was based on the finding that the worker group does not produce an article within the meaning of section 222 of the Trade Act of 1974. The investigation revealed that workers of the subject firm monitored customer's hardware in preparation for software upgrades.

The petitioner contends that the Department erred in its interpretation of the facts and alleges that the company official provided inaccurate information regarding the core responsibilities of the workers of the subject firm. The petitioner further states that workers of the subject firm “prepare a customer's communications equipment to receive Nortel issued “Critical” patches/upgrades necessary for the equipment to operate within FCC regulated guidelines.” The petitioner provided contact information for a different company official and requested further solicitation for all further information from this official.

On reconsideration, the Department contacted subject firm's company official as directed by the petitioner. This company official confirmed what was revealed in the initial investigation. The investigation revealed that workers of Nortel Networks Corporation, Global Software Delivery Division, Site Readiness Group, Research Triangle Park, North Carolina install software upgrades to customers' telecommunication equipment and that petitioner's description of the work performed at the subject firm is correct. Preparation of customer's communications equipment and other functions, as described above, are not considered production of an article within the meaning of section 222 of the Trade Act. No production took place at the subject facility and the workers did not support production of articles at any affiliated firm in the relevant time period.

The petitioner also alleges that jobs have been shifted from the subject firm to Mexico.

The allegation of a shift to another country might be relevant if it was determined that workers of the subject firm produced an article. However, the investigation determined that workers of Nortel Networks Corporation, Global Software Delivery Division, Site Readiness Group, Research Triangle Park, North Carolina do not produce an article within the meaning of section 222 of the Trade Act of 1974.

Conclusion

After review of the application and investigative findings, I conclude that there has been no error or misinterpretation of the law or of the facts which would justify reconsideration of the Department of Labor's prior decision. Accordingly, the application is denied.

Signed in Washington, DC, this 10th day of January, 2008.
Elliott S. Kushner,
Certifying Officer, Division of Trade Adjustment Assistance.

[FR Doc. E8-839 Filed 1-17-08; 8:45 am]

BILLING CODE 4510-FN-P